FEDERAL COMMUNICATIONS COMMISSION

[DA 25-327; FR ID 290544]

Notice of Suspension and Commencement of Proposed Debarment Proceedings; Schools and Libraries Universal Service Support Mechanism

AGENCY: Federal Communications Commission.

ACTION: Notice.

SUMMARY: The Enforcement Bureau (the “Bureau”) gives notice of the suspension of Aron Melber from the schools and libraries universal service support mechanism (or “E-Rate Program”) and all universal service support mechanisms. Additionally, the Bureau gives notice that debarment proceedings are commencing against Mr. Melber. Mr. Melber, or any person who has an existing contract with or intends to contract with Mr. Melber to provide or receive services in matters arising out of activities associated with or related to the schools and libraries support, may respond by filing an opposition request, supported by documentation.

DATES: Opposition requests must be submitted within 30 days of receiving the suspension letter or by May 29, 2025, whichever comes first. The Bureau will decide on any opposition request within 90 days.

ADDRESSES: Federal Communications Commission, Enforcement Bureau, Investigations and Hearings Division, 45 L Street NE, Washington, DC 20554.

FOR FURTHER INFORMATION CONTACT: Christina Thomas, Federal Communications Commission, Enforcement Bureau, Investigations and Hearings Division, 45 L Street NE, Washington, DC 20554. Christina Thomas may be contacted by phone at (202) 418-1879 or email at Christina.Thomas@fcc.gov. If Ms. Thomas is unavailable, you may contact Mr. Christopher J. Sova, Chief, Investigations and Hearings Division, by telephone at (202) 418-1868 or by email at Christopher.Sova@fcc.gov.

SUPPLEMENTARY INFORMATION: The Bureau has suspension and debarment authority pursuant to 47 CFR 54.8 and 47 CFR 0.111(a)(14). Suspensions ensure that suspended parties cannot continue to benefit from the schools and libraries mechanism pending resolution of the debarment process. Attached is the suspension letter, DA 25-327, which was mailed to Mr. Melber and released on April 29, 2025. The complete text of the notice of suspension and initiation of debarment proceedings is on the FCC's website at https://docs.fcc.gov/public/attachments/DA-25-327A1.pdf.

Federal Communications Commission.
Christopher Sova,
Chief, Investigations and Hearings Division, Enforcement Bureau.

BILLING CODE 6712-01-P

[FR Doc. 2025-07353 Filed 4-28-25; 8:45 am]

BILLING CODE 6712-01-C